SECURITIES AND EXCHANGE COMMISSION

[Release No. 34-46857; File No. SR-Amex-2001-06]

Self-Regulatory Organizations; American Stock Exchange LLC; Order Approving a Proposed Rule Change and Amendment Nos. 1, 2 and 3 Thereto Relating to Relief and Temporary Specialists

November 21, 2002.

On February 14, 2001, the American Stock Exchange LLC (“Amex” or “Exchange”) filed with the Securities and Exchange Commission (“Commission”), pursuant to Section 19(b)(1) of the Securities Exchange Act of 1934 (“Act”)¹ and Rule 19b-4 thereunder,² a proposed rule change to require specialists units consisting of fewer than three members to arrange for the registration of one or more relief specialists,³ and to revise the Exchange's rules regarding the appointment of temporary specialists. The Exchange also proposed allowing specialist units with less than three persons six months (or such longer time as the Chief Executive Officer of the Exchange may determine is appropriate) from the date of approval of the proposed rule change to obtain Exchange approval of their relief specialist arrangements. The Exchange submitted Amendment Nos. 1,⁴ 2,⁵ and 3⁶ to the proposed rule change, respectively. The proposed rule change, as amended, was published in the Federal Register on October 22, 2002.⁷ The Commission received no comments on the proposed rule change. This order approves the proposed rule change, as amended.

¹ 15 U.S.C. 78s(b)(1).

² 17 CFR 240.19b-4.

³ The Exchange identified that specialists units with more than three persons may also arrange for relief specialists pursuant to this proposed rule. Telephone conversation among William Floyd-Jones, Assistant General Counsel, Amex, Terri Evans, Assistant Director, and Lisa N. Jones, Attorney, Division, Commission, dated May 30, 2002.

⁴ See letter from William Floyd-Jones, Jr., Assistant General Counsel, Amex, to Nancy Sanow, Assistant Director, Division of Market Regulation (“Division”), Commission, dated August 17, 2001 (“Amendment No. 1”) (replacing the original filing in its entirety).

⁵ See letter from William Floyd-Jones, Jr., Assistant General Counsel, Amex, to Nancy Sanow, Assistant Director, Division, Commission, dated September 30, 2002 (“Amendment No. 2”) (replacing the original filing in its entirety).

⁶ See letter from William Floyd-Jones, Jr., Assistant General Counsel, Amex, to Nancy Sanow, Assistant Director, Division, Commission, dated October 7, 2002 (“Amendment No. 3”) (replacing the original filing in its entirety).

⁷ See Securities Exchange Act Release No. 46655 (October 11, 2002), 67 FR 64940.

The Commission finds that the proposed rule change, as amended, is consistent with the requirements of the Act and the rules and regulations thereunder applicable to a national securities exchange.⁸ In particular, the Commission finds that the proposal, as amended, is consistent with Section 6(b)(5) of the Act,⁹ which requires, among other things, that the Exchange's rules be designed to promote just and equitable principles of trade, and, in general, to protect investors and the public interest.

⁸ In approving this proposed rule change, the Commission has considered its impact on efficiency, competition, and capital formation. 15 U.S.C. 78c(f).

⁹ 15 U.S.C. 78f(b)(5).

Specifically, the Commission believes requiring specialists units consisting of fewer than three members to arrange for the registration of one or more relief specialists, approved by the Exchange's Committee on Floor Members Performance, helps to ensure that there is no interruption of service when the Exchange is open for business. Similarly, the Commission believes that it is appropriate for a temporary specialist to be appointed by the Exchange in the event of an emergency or other unusual situations in which the regular or relief specialist would be unable to adequately manage the volume or business in a particular stock or stocks to ensure adequate staffing on the Exchange floor. The Commission notes that relief specialists and temporary specialists, to the extent that no regular or relief specialist is present, will be subject to the same responsibilities for the maintenance and stabilization of the market as regular registered specialists. Further, the Commission notes that these arrangements are similar to arrangements already allowed by the New York Stock Exchange, Inc.

It is therefore ordered, pursuant to Section 19(b)(2) of the Act,¹⁰ that the proposed rule change (SR-AMEX-2001-06), as amended, is approved.

¹⁰ 15 U.S.C. 78s(b)(2).

For the Commission by the Division of Market Regulation, pursuant to delegated authority.¹¹
¹¹ 17 CFR 200.30-3(a)(12).
Margaret H. McFarland,
Deputy Secretary.

[FR Doc. 02-30535 Filed 12-2-02; 8:45 am]

BILLING CODE 8010-01-P